DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 20, 2003.

Interested persons are invited to submit written comments regarding the subject matter of the investigations to the Director, Division of Trade Adjustment Assistance, at the address shown below, not later than October 20, 2003.

The petitions filed in this case are available for inspection at the Office of the Director, Division of Trade Adjustment Assistance, Employment and Training Administration, U.S. Department of Labor, Room C-5311, 200 Constitution Avenue, NW., Washington, DC 20210.

Signed at Washington, DC this 26th day of September 2003.
Timothy Sullivan,
Director, Division of Trade Adjustment Assistance.

Appendix
[Petitions instituted between 09/08/2003 and 09/12/2003]
TA-W | Subject firm (petitioners) | Location | Date of institution | Date of petition
52,775 | Taylor Precision Products (Comp) | Fletcher, NC | 09/08/2003 | 08/15/2003
52,776 | Biddle Precision (Wkrs) | Sheridan, IN | 09/08/2003 | 09/03/2003
52,777 | Steelcase, Inc. | Grand Rapids, MI | 09/08/2003 | 08/12/2003
52,778 | Titan Tire (Wkrs) | Brownsville, TX | 09/08/2003 | 08/28/2003
52,779 | Avondale Mills, Inc. (Wkrs) | Sylacauga, AL | 09/08/2003 | 08/22/2003
52,780 | SPX Dock Products (IBT) | Milwaukee, WI | 09/09/2003 | 09/08/2003
52,781 | Wellington Synthetic Fibers (Comp) | Leesville, SC | 09/09/2003 | 09/02/2003
52,782 | Progressive Processing (Comp) | Elyria, OH | 09/09/2003 | 09/02/2003
52,783 | Crystal Creative Products (Comp) | Maysville, KY | 09/09/2003 | 08/20/2003
52,784 | JLG Omniquip, Inc. (IAM) | Port Washington, WI | 09/10/2003 | 09/05/2003
52,785 | Gould Electronics, Inc. (Comp) | McConnelsville, OH | 09/10/2003 | 08/18/2003
52,786 | Excelsior Foundry Company (GMP) | Belleville, IL | 09/10/2003 | 08/21/2003
52,787 | Western Technology Services, Int'l, Inc. (Comp) | Casper, WY | 09/10/2003 | 08/26/2003
52,788 | Springs Industries (Comp) | Lancaster, SC | 09/10/2003 | 08/28/2003
52,789 | Alkahn Labels (Comp) | Cochran, GA | 09/11/2003 | 08/28/2003
52,790 | Hanes Dye and Finishing Co. (Comp) | Winston-Salem, NC | 09/11/2003 | 09/04/2003
52,791 | Rothtec Engraving Corp. (Comp) | Spartanburg, SC | 09/11/2003 | 08/19/2003
52,792 | RST and B Quilting and Bedding Co., Inc. (Comp) | Woodruff, SC | 09/11/2003 | 09/02/2003
52,793 | Milligan and Higgins (UNITE) | Johnstown, NY | 09/11/2003 | 09/02/2003
52,794 | Practice Partner, Inc. (Wkrs) | Goldsboro, NC | 09/11/2003 | 09/03/2003
52,795 | CSC (Wkrs) | York, PA | 09/11/2003 | 08/25/2003
52,796 | Halliburton (Comp) | Prudhoe Bay, AK | 09/11/2003 | 09/02/2003
52,797 | Alcatel (Wkrs) | Allen, TX | 09/11/2003 | 08/17/2003
52,798 | ADC the Broadband Co. (Wkrs) | Eden Prairie, MN | 09/11/2003 | 08/27/2003
52,799 | Western Metal Specialty Co. (IAM) | Milwaukee, WI | 09/11/2003 | 09/05/2003
52,800 | GE Betz (Wkrs) | Grand Rapids, MI | 09/11/2003 | 08/31/2003
52,801 | Springs Industries, Inc. (Comp) | Lancaster, SC | 09/11/2003 | 08/28/2003
52,802 | S.D. Warren (Sappi) (Wkrs) | Boston, MA | 09/11/2003 | 09/05/2003
52,803 | Norwood Yarn Sales (Wkrs) | Norwood, NC | 09/11/2003 | 08/11/2003
52,804 | Garden State Tanning (Comp) | Williamsport, MD | 09/11/2003 | 08/26/2003
52,805 | Council Craftsmen, Inc. (Comp) | Denton, NC | 09/11/2003 | 09/08/2003
52,806 | BMC Software (Wkrs) | Houston, TX | 09/11/2003 | 08/15/2003
52,807 | Brubaker Tool Corp. (Comp) | Millersburg, PA | 09/11/2003 | 08/21/2003
52,808 | Maui Pineapple Co., Ltd. (ILWU) | Kahului, HI | 09/11/2003 | 08/22/2003
52,809 | Janet, Inc. t/a Alperin (UNITE) | Scranton, PA | 09/11/2003 | 08/14/2003
52,810 | Knernschield Manufacturing Co. (Wkrs) | Columbia, MO | 09/11/2003 | 09/04/2003
52,811 | RBX Industries, Inc. (Comp) | Conover, NC | 09/11/2003 | 09/11/2003
52,812 | Metaldyne Sintered Co. (Comp) | St. Mary's, PA | 09/11/2003 | 08/20/2003
52,813 | Eastman Kodak Co. (Comp) | Rochester, NY | 09/11/2003 | 09/02/2003
52,814 | Precision Tool and Design (Comp) | Erie, PA | 09/11/2003 | 08/28/2003
52,815 | Siemens Energy and Automation (Comp) | Lebanon, OH | 09/11/2003 | 08/18/2003
52,816 | Kester (Comp) | Anaheim, CA | 09/11/2003 | 08/21/2003
52,817 | Spencer's, Inc. (Comp) | Mt. Airy, NC | 09/11/2003 | 09/02/2003
52,818 | Hewlett Packard (Wkrs) | Colorado Spgs., CO | 09/11/2003 | 09/04/2003
52,819 | BSN—Jobst (Comp) | Rutherford Col., NC | 09/11/2003 | 09/05/2003
52,820 | Telemundo Network Group (Wkrs) | Hialeah, FL | 09/11/2003 | 08/28/2003
52,821 | Intel Corp. (Wkrs) | Colorado Spgs., CO | 09/11/2003 | 09/05/2003
52,822 | JacksonLea (Comp) | Santa Fe Spring, CA | 09/11/2003 | 08/20/2003
52,823 | Channel Products, Inc. (Comp) | Chesterland, OH | 09/11/2003 | 08/25/2003
52,824 | Givaudan Flavoring Corp. (OH) | Cincinnati, OH | 09/11/2003 | 08/20/2003
52,825 | Lynn Dean Fashions, Inc. (Comp) | Biscoe, NC | 09/11/2003 | 08/19/2003
52,826 | Tomak Precision (OH) | Lebanon, OH | 09/11/2003 | 08/22/2003
52,827 | Dana Corp. (Wkrs) | Caldwell, OH | 09/11/2003 | 06/09/2003
52,828 | AK Steel (Wkrs) | Rockport, IN | 09/11/2003 | 09/02/2003
52,829 | New Redford Plastic Bag Co. (Comp) | New Bedford, MA | 09/11/2003 | 08/28/2003
52,830 | Surgical Specialties Corp. (Wkrs) | Ada, OK | 09/11/2003 | 09/04/2003
52,831 | SPX Dock Products (Comp) | Carrollton, TX | 09/11/2003 | 09/03/2003
52,832 | Apparel Ventures, Inc. (Comp) | South Gate, CA | 09/12/2003 | 09/08/2003
52,833 | Owenby Company (The) (Comp) | Blairsville, GA | 09/12/2003 | 09/02/2003
52,834 | Safety Stitch, Inc. (The) (Comp) | Harrisville, WV | 09/12/2003 | 08/22/2003
52,835 | Southeastern Adhesives Co. (Wkrs) | Lenoir, NC | 09/12/2003 | 09/02/2003
52,836 | AA Consultants, Inc. (Comp) | El Paso, TX | 09/12/2003 | 09/05/2003
52,837 | Sykes Enterprises (Wkrs) | Klamath Falls, OR | 09/12/2003 | 08/27/2003
52,838 | Vitco, LLC (Comp) | Nappanee, IN | 09/12/2003 | 09/03/2003
52,938 | GE Engine Services (Comp) | McAllen, TX | 09/12/2003 | 08/27/2003
52,840 | Merit Abrasive Products (Comp) | Brookville, OH | 09/12/2003 | 08/29/2003
52,841 | Wheeling-Pittsburgh Steel Corp. (Wkrs) | Steuberville, OH | 09/12/2003 | 08/25/2003
52,842 | Wal-Mart Distribution Center (Wkrs) | Laurens, SC | 09/12/2003 | 08/27/2003
52,843 | Lear Corporation (UAW) | Traverse City, MI | 09/12/2003 | 09/05/2003
52,844 | 4 D's Ind. (Comp) | Tellico Plains, TN | 09/12/2003 | 09/04/2003
52,845 | Ranco North America (Comp) | Brownsville, TX | 09/12/2003 | 08/26/2003
52,846 | Brookman Cast Industries (Comp) | Salem, OR | 09/12/2003 | 08/22/2003
52,847 | MedSource Technologies (Wkrs) | Newton, MA | 09/12/2003 | 08/26/2003
52,848 | Snap-Tite (Wkrs) | Erie, PA | 09/12/2003 | 08/29/2003
52,849 | Renaissance Mark (GCU) | Baltimore, MD | 09/12/2003 | 09/04/2003
52,850 | Breed Technologies (Wkrs) | El Paso, TX | 09/12/2003 | 09/28/2003
52,851 | General Mills (Wkrs) | Eden Prairie, MN | 09/12/2003 | 09/02/2003
52,852 | Aurora Metals Division, LLC (Comp) | Montgomery, IL | 09/12/2003 | 09/03/2003
52,853 | Trenton Technology, Inc. (NY) | Utica, NY | 09/12/2003 | 09/04/2003
52,854 | U.S. Axle, Inc. (Comp) | Pottstown, PA | 09/12/2003 | 09/26/2003
52,855 | ON Semiconductor (Wkrs) | E. Greenwich, RI | 09/12/2003 | 09/03/2003
52,856 | Starbase Technologies, Inc. (Comp) | Pittsfield, MA | 09/12/2003 | 09/28/2003

[FR Doc. 03-25704 Filed 10-9-03; 8:45 am]

BILLING CODE 4510-30-M